DEPARTMENT OF ENERGY

Federal Energy Regulatory Commission

[Project No. 2150-153]

Puget Sound Energy, Inc.; Notice of Intent To Prepare an Environmental Assessment

On July 14, 2022, as supplemented on August 1, 2023, Puget Sound Energy, Inc. (licensee) filed a draft biological assessment (BA) under section 7 of the Endangered Species Act (ESA) addressing the potential effects that could occur to federally-listed species, designated critical habitat, and essential fish habitat (EFH) as a result of the licensee's proposed Upper Baker Dam Spillway Stability Improvements and Tailrace Channel Rock Debris Removal Project (Spillway Project) at the Baker River Hydroelectric Project No. 2150. On September 15, 2021, the licensee filed a Water Quality Protection Plan in support of the proposed Spillway Project. The Baker River Project consists of two developments, Upper Baker and Lower Baker, and is located on the Baker River in Skagit and Whatcom counties, Washington. The project occupies federal lands administered by the U.S. Forest Service (Forest Service) within the Mt. Baker-Snoqualmie National Forest.

The licensee proposes to improve stability of the Upper Baker Dam spillway slope and remove accumulated rockfall debris material in the tailrace channel downstream of the dam. To stabilize the spillway slope, the licensee plans to excavate the rockfall debris from the tailrace channel and backfill the existing sluiceway structure with concrete or cementitious grout, imported coarse and fine aggregate, and a portion of the rockfall debris, creating a concrete rock buttress to improve the stability of the spillway slope. The proposed project is needed because the existing spillway slope has been identified as a potential failure mode for the Upper Baker Dam, and rockfall debris in the channel downstream of the dam contributes to flooding of the powerhouse during spill events and has reduced power generation.

On August 17, 2022, Commission staff issued a Notice of Water Quality Protection Plan Accepted for Filing and Soliciting Comments, Motions to Intervene, and Protests. On August 30, 2022 and September 16, 2022, the Washington State Department of Fish and Wildlife and Forest Service, respectively, filed notices of intervention. No other comments or motions to intervene were received.

On August 17, 2022, Commission staff adopted the licensee's draft BA without modification as the Commission's final BA and requested formal consultation with the U.S. Fish and Wildlife Service (FWS) and the National Marine Fisheries Service (NMFS). By letter dated February 21, 2023, Commission staff updated the request for consultation under section 7 of the ESA from formal to informal consultation between NMFS and the Commission. On September 25, 2023, Commission staff issued separate letters to the FWS and NMFS, informing the agencies of the supplemental information filed by the licensee on August 1, 2023, and updating the requests for consultation under section 7 of the ESA. On August 15, 2023, NMFS filed a letter of concurrence with the Commission's determinations that the proposed Spillway Project is not likely to adversely affect the NMFS ESA-listed species and/or designated critical habitat. On November 3, 2023, the FWS filed its Biological Opinion in response to the Commission's BA.

In the August 17, 2022 letter, and reiterated in the February 21, 2023 letter, Commission staff also determined, pursuant to the Magnuson-Stevens Fishery Conservation and Management Act (Magnuson-Stevens Act), that the Spillway Project may adversely affect EFH for Pacific coast salmon. In the August 15, 2023 letter, NMFS reviewed the proposed Spillway Project for potential effects on EFH under the Magnuson-Stevens Act, including conservation measures and any determination made by the Commission regarding the potential effects of the proposed Spillway Project, and concluded that the proposed Spillway Project would not adversely affect EFH.

This notice identifies Commission staff's intention to prepare an environmental assessment (EA) for the project.¹ Commission staff plans to issue an EA by March 7, 2025. Revisions to the schedule may be made as appropriate.

¹ In accordance with the Council on Environmental Quality's regulations, the unique identification number for documents relating to this environmental review is EAXX-019-20-000-1737643370. 40 CFR 1501.5(c)(4) (2024).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Marybeth Gay at (202) 502-6125 or Marybeth.gay@ferc.gov.

Dated: January 27, 2025.
Debbie-Anne A. Reese,
Secretary.

[FR Doc. 2025-02080 Filed 1-31-25; 8:45 am]

BILLING CODE 6717-01-P